BUREAU OF CONSUMER FINANCIAL PROTECTION

Proposed Collection; Comment Request

AGENCY: Bureau of Consumer Financial Protection.

ACTION: Notice and request for comment.

SUMMARY: The Bureau of Consumer Financial Protection (Bureau), as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau is soliciting comments concerning the information collection efforts relating to streamlining inherited regulations.

DATES: Written comments should be received on or before June 29, 2012 to be assured of consideration.

ADDRESSES: You may submit comments by any of the following methods:

• Electronic: CFPB_Public_PRA@cfpb.gov.

• Mail/Hand Delivery/Courier: Direct all written comments to Consumer Financial Protection Bureau, (Attention: PRA Office), 1700 G Street NW., Washington, DC 20552.

Instructions: Comments will be available for public inspection and copying at 1700 G Street NW., Washington, DC 20552 on official business days between the hours of 10 a.m. and 5 p.m. Eastern Time. You can make an appointment to inspect comments by telephoning (202) 435-7275. All comments, including attachments and other supporting materials, will become part of the public record and subject to public disclosure. You should only submit information that you wish to make available publicly.

FOR FURTHER INFORMATION CONTACT: Requests for additional information or copies of the documents contained under this approval number should be directed to R. Joseph Durbala, (202) 435-7893, at the Consumer Financial Protection Bureau, (Attention: R. Joseph Durbala, PRA Office),1700 G Street NW., Washington, DC 20552, or through the internet at CFPB_Public_PRA@cfpb.gov.

SUPPLEMENTARY INFORMATION: Title: Streamlining Inherited Regulations.

OMB Number: 3170-0020.

Form Number: N/A.

Abstract: The purpose of this data collection is to help the Bureau identify priority areas for such streamlining. The Bureau's effort to identify and address such priorities is and will continue to be based in part on guidance provided by the Office of Management and Budget Memorandum for the Heads of Independent Regulatory Agencies, M-11-28, “Executive Order 13579, `Regulation and Independent Regulatory Agencies'” (July 22, 2011). That guidance discusses the importance of opportunities for public participation in the development of any retrospective analysis plan. Consistent with this guidance, the Bureau seeks to reach interested parties through two mechanisms. The first mechanism is a Federal Register notice. On December 5, 2011, a notice titled “Streamlining Inherited Regulations” was published in the Federal Register. The notice seeks comment in writing, or through the regulations.gov Web site. The data collection for which the Bureau now seeks approval would be the second mechanism. In order to reach respondents that might not be inclined to respond to the Federal Register notice, the Bureau seeks to collect input from interested parties through a specialized web tool on the CFPB Web site.

Current Actions: There is no change in the paperwork burden previously approved by OMB. This form is being submitted for renewal purposes only.

Type of Review: Extension of a currently approved collection.

Affected Public: Individuals and Households.

Estimated Number of Responses: 500.

Estimated Time per Respondent: 1 hour.

Estimated Total Annual Burden Hours: 500.

The following paragraph applies to all of the collections of information covered by this notice:

An agency may not conduct or sponsor, and a person is not required to respond to, a collection of information unless the collection of information displays a valid OMB control number.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information, including the validity of the methodology and the assumptions used; (c) ways to enhance the quality, utility, and clarity of the information to be collected; and (d) ways to minimize the burden of the collection of information on respondents, including through the use of automated collection techniques or other forms of information technology.

Dated: April 9, 2012.
Chris Willey,
Chief Information Officer, Bureau of Consumer Financial Protection.

[FR Doc. 2012-10284 Filed 4-27-12; 8:45 am]

BILLING CODE 4810-AM-P